DEPARTMENT OF TRANSPORTATION

Federal Railroad Administration

Petition for Waiver of Compliance

In accordance with part 211 of Title 49 Code of Federal Regulations (CFR), notice is hereby given that the Federal Railroad Administration (FRA) has received a request for a waiver of compliance with certain requirements of its safety standards. The individual petition is described below, including the party seeking relief, the regulatory provisions involved, the nature of the relief being requested, and the petitioner's arguments in favour of relief.

Association of American Railroads

[Docket Number FRA-2004-19402]

On behalf of the members of both companies, the Association of American Railroads (AAR) and the Railway Supply Institute (RSI), hereafter referred to as petitioners, seek to amend the original waiver that was granted by the FRA regarding minimum piston travel as prescribed by 49 CFR 232.205(b)(5) Class I Brake Test—Initial Terminal Inspection.

On October 4, 2004, a waiver petition was submitted for the piston travel requirements contained in § 232.205(b)(5), to reduce the minimum length of piston travel for cars equipped with 8½-inch or 10-inch diameter brake cylinders from seven inches to six inches. See 69 FR 64625. On February 23, 2005, FRA granted conditional approval of this request with respect to light-weight cars with empty/load valves rated below 50 percent. FRA granted this limited approval because the data and analysis submitted addressed only the cars for which the relief was granted. The petitioner contends that FRA's decision to limit the waiver to only light-weight cars with empty/load valves rated at below 50 percent will adversely affect safety because braking performance will be impaired. Therefore, the petitioner is submitting this request to modify the original waiver to include the entire fleet of cars equipped with 8½-inch or 10-inch diameter brake cylinders that are subject to the minimum piston travel requirements contained in § 232.205(b)(5).

The current minimum piston travel requirement of seven-inches dates from a time when automatic slack adjusters and empty/load devices were not widely used. Advances in empty/load valve technology have enabled AAR to upgrade its original brake ratio specifications for new cars. Effective January 1, 2004, AAR's minimum loaded brake ratio was increased and the maximum empty brake ratio decreased. This results in higher minimum braking forces for loaded cars and lower maximum braking forces for empty cars, which results in a reduction in adverse effects from excessive brake forces being applied to wheels on empty cars. However, these improvements result in less than a nominal seven-inches of piston travel on many empty cars. The problem is not limited to cars of a particular type, such as light-weight cars or cars with empty/load valves rated at less than 50 percent. Some cars of concern include, but are not limited to: 89′ flat cars weighing 82,000 pounds (lbs) equipped with 60 percent empty/load valves, covered hopper cars (including grain, cement, pressure differential, and pellet cars), mill gondolas weighing 48,000 lbs with 50 percent empty/load valves, and cars that have empty/load valves rated below the original waiver's threshold of 50 percent but weigh more than the 45,000 lbs, such as rapid discharge-type coal hoppers weighing 48,500 lbs and small-cube covered hoppers weighing 53,000 lbs.

The petitioner contends that even if the seven-inch minimum piston travel provision could be complied with, it would be counterproductive because a seven-inch piston travel minimum forces car builders to set loaded piston travel as close as possible to the maximum piston travel allowed under AAR rules (7¾ inches) in an attempt to meet the seven-inch minimum piston travel for empty cars. This results in reduced braking forces because of the larger brake-cylinder volume and correspondingly lower brake-cylinder pressure. Stopping distance is thereby increased. Concomitantly, if empty cars are found with piston travel of less than seven-inches and are adjusted to 7½ inches while still empty, their piston travel could exceed the maximum nine-inch piston travel requirement when loaded. This might not be discovered until the next required testing. Moreover, the petitioner contends that Transport Canada has long permitted a minimum piston travel of six-inches for cars equipped with 8½-inch or 10-inch diameter brake cylinders. The petitioner states that the six-inch minimum piston travel requirement has been in effect in Canada since 1986, and there have been no adverse consequences from permitting piston travel under seven-inches.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-19402) and must be submitted in triplicate to the Docket Clerk, DOT Central Docket Management Facility, Room Pl-401, Washington, DC 20590-0001. Communications received within 30 days of the date of this notice will be considered by FRA before final action is taken. Comments received after that date will be considered as far as practicable. All written communications concerning these proceedings are available for examination during regular business hours (9 a.m.-5 p.m.) at DOT Central Docket Management Facility, Room Pl-401 (Plaza Level), 400 Seventh Street, SW., Washington. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC on May 20, 2005.
Grady C. Cothen, Jr.,
Deputy Associate Administrator for Safety Standards and Program Development.

[FR Doc. 05-10696 Filed 5-27-05; 8:45 am]

BILLING CODE 4910-06-P